DEPARTMENT OF THE TREASURY

Internal Revenue Service

26 CFR Parts 1, 301, and 602

[REG-106542-98]

RIN 1545-AW24

Election To Treat Trust as Part of an Estate; Hearing Cancellation

AGENCY: Internal Revenue Service (IRS), Treasury.

ACTION: Cancellation of notice of public hearing on proposed rulemaking.

SUMMARY: This document cancels the public hearing on proposed regulations that relate to an election to have certain revocable trusts treated and taxed as part of an estate.

DATES: The public hearing scheduled for Wednesday, April 11, 2001, at 10 a.m., is cancelled.

FOR FURTHER INFORMATION CONTACT: LaNita Van Dyke of the Regulations Unit, Office of Special Counsel (Modernization & Strategic Planning), (202) 622-7190 (not a toll-free number).

SUPPLEMENTARY INFORMATION: A notice of proposed rulemaking and notice of public hearing that appeared in the Federal Register on Monday, December 18, 2000 (65 FR 79015), announced that a public hearing was scheduled for Wednesday, February 21, 2001, at 10 a.m., in the Auditorium, Internal Revenue Building, 1111 Constitution Avenue, NW., Washington, DC. On Thursday, February 8, 2001, a document was published at 66 FR 9535 changing the date of the hearing to April 11, 2001, and extending the date the outlines of oral comments were due to March 21, 2001. The subject of the public hearing is proposed regulations under section 645 of the Internal Revenue Code. The public comment period and the date the outlines of oral comments were due for these proposed regulations expired on Wednesday, March 21, 2001.

The notice of proposed rulemaking and notice of public hearing, instructed those interested in testifying at the public hearing to submit a request to speak and an outline of the topics to be addressed. As of Wednesday, March 28, 2001, no one has requested to speak. Therefore, the public hearing scheduled for Wednesday, April 11, 2001, is cancelled.

Cynthia Grigsby,
Chief, Regulations Unit, Office of Special Counsel (Modernization & Strategic Planning).

[FR Doc. 01-8046 Filed 3-30-01; 8:45 am]

BILLING CODE 4830-01-P